DEPARTMENT OF THE INTERIOR

National Park Service

General Management Plan, Environmental Impact Statement, Big Bend National Park, TX; River Management Plan, Environmental Impact Statement, Rio Grande Wild and Scenic River, TX, and Wilderness Study, Environmental Impact Statement, Harte Ranch, Big Bend National Park, TX

AGENCY: National Park Service, Department of the Interior.

ACTION: Amend Notice of intent to prepare an environmental impact statement for the general management plan, Big Bend National Park (NP), Texas, river management plan, Rio Grande Wild and Scenic River (WSR), Texas, and wilderness study, Harte Ranch, Big Bend National Park.

SUMMARY: On May 3, 2000, the National Park Service published a notice of intent for the action described above. The following amends that notice. Rather than preparing a wilderness study and environmental impact statement for the Harte Ranch, a wilderness suitability assessment will be prepared. The General Management Plan, Environmental Impact Statement, Big Bend National Park, Texas; River Management Plan, Environmental Impact Statement, Rio Grande Wild and Scenic River, Texas; and wilderness suitability assessment, Harte Ranch, Big Bend National Park are underway.

FOR FURTHER INFORMATION CONTACT: Superintendent Frank Deckert, P. O. Box 129, Big Bend National Park, Texas 79834; Tel: (915) 477-1101; Fax: (915) 477-2357; E-mail: deckert_frank@nps.gov.

Dated: March 21, 2001.
Karen P. Wade,
Director, Intermountain Region, National Park Service.

[FR Doc. 01-8684 Filed 4-6-01; 8:45 am]

BILLING CODE 4310-70-P